DEPARTMENT OF ENERGY

Federal Energy Regulatory Commission

[Docket No. CP05-396-000]

Sabine Pass LNG, L.P.; Notice of Application

August 12, 2005.

Take notice that on July 29, 2005, Sabine Pass LNG, L.P. (Sabine LNG), 717 Texas Avenue, Suite 3100, Houston, Texas 77002 filed in Docket No. CP05-396-000 an application seeking authorization, pursuant to section 3(a) of the Natural Gas Act and parts 153 and 380 of the Commission's regulations, to site, construct and operate additional liquefied natural gas (LNG) import facilities in Cameron Parish, Louisiana. Sabine LNG supplemented this application on August 8, 2005. Development of these additional LNG facilities constitutes Sabine Pass LNG's Phase 2 Project, and includes three additional LNG storage tanks and new and expanded vaporization systems. The Phase 2 Project facilities will complement the Phase 1 Project authorized by the Commission on December 21, 2004, in Docket No. CP04-47-000 and for which construction is currently underway.

This application is on file with the Commission and open to public inspection. The filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any initial questions regarding these applications should be directed to Keith M. Meyer, 717 Texas Avenue, Suite 3100, Houston, Texas 77002. Phone: (713) 659-1361, Fax (713) 659-5459.

Sabine Pass LNG has provided the minimal amount of cultural resources information necessary for staff to begin the traditional scoping process under the National Environmental Policy Act (NEPA). For projects such as this one that use the traditional authorization process, a Draft Environmental Impact Statement (DEIS) is typically issued for public comment about 8 to 10 months from the filing date of the application. However, the Commission staff can complete and issue the DEIS only after the remaining cultural resources information is submitted.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: 5 p.m. eastern time on September 2, 2005.

Magalie Salas,
Secretary.

[FR Doc. E5-4528 Filed 8-18-05; 8:45 am]

BILLING CODE 6717-01-P